DEPARTMENT OF COMMERCE

Bureau of Industry and Security

15 CFR Parts 738 and 746

[Docket No. 220311-0071]

RIN 0694-AI78

Imposition of Sanctions on `Luxury Goods' Destined for Russia and Belarus and for Russian and Belarusian Oligarchs and Malign Actors Under the Export Administration Regulations (EAR)

AGENCY: Bureau of Industry and Security, Department of Commerce.

ACTION: Final rule.

SUMMARY: In response to the Russian Federation's (Russia's) further invasion of Ukraine, and Belarus's substantial enabling of Russia's invasion, the Department of Commerce is imposing restrictions on the export, reexport, or transfer (in-country) to or within Russia or Belarus of `luxury goods' under the Export Administration Regulations (EAR) and for exports, reexports and transfers (in-country) worldwide to certain Russian or Belarusian oligarchs and other malign actors supporting the Russian or Belarusian governments. Taken together, these new export controls will significantly limit financially elite individuals' and organizations' access to luxury goods and thereby accentuate the consequences of providing such support.

DATES: This rule is effective on March 11, 2022.

FOR FURTHER INFORMATION CONTACT: For questions on this final rule, contact Eileen Albanese, Director, Office of National Security and Technology Transfer Controls, Bureau of Industry and Security, Department of Commerce, Phone: (202) 482-0092, Fax: (202) 482-482-3355, Email: rpd2@bis.doc.gov. For emails, include “Luxury Goods Sanctions Russia and Belarus” in the subject line.

SUPPLEMENTARY INFORMATION:

I. Background

In response to Russia's February 2022 further invasion of Ukraine and Belarus' substantial enabling of this invasion, the Bureau of Industry and Security (BIS) imposed extensive sanctions on Russia and Belarus under the Export Administration Regulations (15 CFR parts 730-774) (EAR) by implementing the final rule, Implementation of Sanctions Against Russia Under the Export Administration Regulations (EAR), effective February 24, 2022 (“Russia Sanctions rule”) ¹ and three subsequent final rules published in March 2022, Imposition of Sanctions Against Belarus Under the Export Administration Regulations (EAR), effective March 2, 2022 (“Belarus Sanctions rule”); ² Expansion of Sanctions Against the Russian Industry Sector Under the Export Administration Regulations (EAR), effective March 3, 2022 (“Industry Sector Sanctions rule”); ³ and Further Imposition of Sanctions Against Russia with the Addition of Certain Entities to the Entity List, effective March 3, 2022 (“Russia Entity List rule”).⁴ BIS also published an additional rule in March 2022, Addition to the List of Countries Excluded from Certain License Requirements under the Export Administration Regulations (EAR), effective March 4, 2022 (“South Korea exclusion rule”) ⁵ that added South Korea to the list of countries in supplement no. 3 to part 746 that are excluded from certain § 746.8 license requirements that pertain to items destined for Russia or Belarus. As described in the Russia Sanctions rule's preamble, as well as in the other rules published in March 2022, Russia's invasion of Ukraine, and Belarus's substantial enabling of Russia's invasion of Ukraine, flagrantly violates international law, is contrary to U.S. national security and foreign policy interests, and undermines global order, peace, and security, necessitating the imposition of stringent sanctions.

¹ 87 FR 12226 (March 3, 2022).

² 87 FR 13048 (March 8, 2022).

³ 87 FR 12856 (March 8, 2022).

⁴ 87 FR 13141 (March 9, 2022).

⁵ 87 FR 13627 (March 10, 2022).

By restricting Russia's and Belarus's access to `luxury goods' in order to increase the costs on Russian and Belarusian persons who support the government of Russia and its invasion of Ukraine, the export control measures implemented in this final rule build upon the policy objectives set forth in the Russian Sanctions rule and in the Belarus Sanctions rule. These individuals include Russian and Belarusian persons (together, Russian and Belarusian oligarchs and malign actors), wherever located, who have been designated by the Department of the Treasury, Office of Foreign Assets Control's (OFAC) under or pursuant to certain Russia and Ukraine-related Executive Orders issued in response to Russia's 2014 occupation of Crimea and related destabilizing conduct in Ukraine and are listed on the List of Specially Designated Nationals and Blocked Persons (SDN List) maintained by OFAC. See http://www.treasury.gov/sdn.

The changes made by this rule are intended to limit access to `luxury goods' by restricting the export, reexport and transfer (in-country) of certain items subject to the EAR that are desired by wealthy Russian and Belarusian citizens, including Russian and Belarusian oligarchs and malign actors. Limiting the export, reexport, and transfer (in-country) of `luxury goods' will undermine the ability of these Russian and Belarusian individuals to acquire luxury items, thereby further highlighting to these influential individuals the financial consequences to their lifestyle of Russia's invasion of Ukraine. With respect to these Russian and Belarusian oligarchs and malign actors, these restrictions on access to `luxury goods' complement asset blocking measures imposed by OFAC and by partner and allied countries. By restricting Russian and Belarusian oligarchs' and malign actors' access to `luxury goods,' the United States is also highlighting to such actors, the loss of the benefits of full participation in the international market.

The export controls in this rule target `luxury goods' for export or reexport to or transfer within Russia or Belarus, as well as to certain Russian and Belarusian oligarchs and malign actors, wherever they are located. This rule is part of larger U.S. Government and partner and allied country actions intended to steadily increase the financial consequences on Russia and Belarus as a result of Russia's invasion of Ukraine and Belarus's substantial enabling of Russia's invasion, as well as on Russian and Belarusian individuals who have supported Russia's destabilizing conduct since Russia's 2014 occupation of the Crimea region of Ukraine.

II. Overview of New Controls

Through this rule, BIS is implementing two new license requirements: One that applies to `luxury goods' subject to the EAR that are destined for Russia or Belarus and another that applies to such items that are destined for Russian and Belarusian oligarchs and malign actors, regardless of their geographical location, who have been designated by OFAC under certain Russia- or Ukraine-related Executive orders. For purposes of these new license requirements, a `luxury good' refers to any item that is identified in new supplement no. 5 to part 746 of the EAR. The license requirement specific to Russia and Belarus for `luxury goods' is added under new § 746.10(a)(1) of the EAR (`Luxury goods' license requirements for Russia and Belarus) (Embargoes and Other Special Controls). The license requirement specific to the designated Russian and Belarusian oligarchs and malign actors for `luxury goods' is added under new § 746.10(a)(2) of the EAR (Worldwide license requirement for `luxury goods' for designated Russian and Belarusian oligarch and malign actors).

The new license requirements set forth in paragraphs (a)(1) and (2) apply to the `luxury goods' identified in supplement no. 5 to part 746. The difference between the two new license requirements is that while the license requirements under paragraph (a)(1) apply to exports and reexports to Russia and Belarus or transfers within Russia and Belarus, regardless of the end user, the license requirement under paragraph (a)(2) is a worldwide license requirement that applies to Russian and Belarusian oligarchs and malign actors designated by OFAC pursuant to certain specified Executive Orders, as described further below.

A very limited number of license exceptions described in § 746.10(c)(1) and (2) may be used to overcome the license requirements in § 746.10(a)(1) if all of the applicable requirements of the license exceptions can be met. No license exceptions are available to overcome the license requirements in § 746.10(a)(2). When a license is required, applications for such items will be subject to a policy of denial.

III. Amendments to the Export Administration Regulations (EAR)

A. Sanctions on `Luxury Goods' Destined for Russia or Belarus and for Russian or Belarusian Oligarchs and Malign Actors

Addition of Expansive License Requirements, Restrictive License Review Policies, and Restrictions on License Exception Eligibility for `Luxury Goods' Destined for Russia or Belarus and for Russian or Belarusian Oligarchs and Malign Actors Worldwide

This final rule adds a new § 746.10 (`Luxury goods' sanctions against Russia and Belarus and Russian and Belarusian Oligarchs and Malign Actors). This new section consists of two new license requirements added under paragraphs (a)(1) and (2). This rule also adds paragraph (b) to § 746.10 to specify the license review policy for the new license requirements under paragraphs (a)(1) and (2). Additionally, this rule adds paragraph (c) to § 746.10 to exclude the use of EAR license exceptions to overcome the license requirements under new paragraphs (a)(1) and (2), except for the limited number of license exceptions identified under paragraphs (c)(1) and (2). Finally, this rule adds supplement no. 5 to part 746 that identifies the `luxury goods' that are subject to the license requirements under paragraphs (a)(1) and (2) to § 746.10. These changes are described in greater detail below.

1. Section 746.10(a)(1) `Luxury Goods' License Requirements for Russia and Belarus

This rule adds new paragraph (a)(1) that imposes license requirements for exports and reexports to or transfers within Russia and Belarus of the `luxury goods' identified in new supplement no. 5 to part 746. This license requirement is in addition to license requirements specified on the Commerce Control List (CCL) in supplement no. 1 to part 774 of the EAR and in other provisions of the EAR, including part 744 and §§ 746.5 and 746.8. New supplement no. 5 to part 746, which is also added to the EAR in this rule, is the listing of the `luxury goods' that are subject to a license requirement under paragraphs (a)(1) and (2), as described below.

2. Section 746.10(a)(2) Worldwide License Requirement for `Luxury Goods' for Russian or Belarusian Oligarch and Malign Actors

This rule adds paragraph (a)(2) to impose license requirements for exports and reexports to or transfers (in-country), of `luxury goods' identified in new supplement no. 5 to part 746, to certain Russian and Belarusian oligarchs and malign actors (as described below), wherever located. This license requirement is in addition to license requirements specified on the CCL in supplement no. 1 to part 774 of the EAR and in other provisions of the EAR, including part 744 and §§ 746.5 and 746.8.

The Russian and Belarusian oligarchs and malign actors to whom this new license requirement under paragraph (a)(2) applies are individuals who have been designated by OFAC under or pursuant to seven Executive orders and identified on the SDN List. The applicable SDN List identifiers for persons designated pursuant to these seven Executive Orders are: [RUSSIA-EO14024], [UKRAINE-EO13660], [UKRAINE-EO13661], [UKRAINE-EO13662], [UKRAINE-EO13685], [BELARUS], and [BELARUS-EO14038]. The license requirement applies to exports, reexports, or transfers (in-country) worldwide of any `luxury good' “subject to the EAR” identified in supplement no. 5 to this part that is destined for any designated Russian or Belarusian oligarch or malign actor, or in situations in which a party to the transaction is a Russian or Belarusian oligarch or malign actor who has been designated in or pursuant to one of the specified Executive orders. This rule specifies that for purposes of paragraph (a)(2), an `oligarch or malign actor' is any natural person that is designated on the SDN List with any of the designations referenced in paragraph (a)(2).

This rule also adds a note to paragraph (a) to specify that for purposes of paragraphs (a)(1) and (2), a `luxury good' means any item that is identified in supplement no. 5 to part 746. BIS estimates that these new controls in § 746.10(a)(1) and (2) will result in an additional 750 license applications being submitted to BIS annually.

3. Licensing Policy for Applications Required Under § 746.10

Under paragraph (b) (Licensing Policy) of § 746.10, applications for export or reexport to or transfer within Russia or Belarus that require a license under new paragraph (a)(1), and applications for exports, reexports, or transfers (in-country) worldwide that are destined for Russian or Belarusian oligarchs and malign actors that are subject to the new license requirement (or in situations in which the latter are parties to the transaction as described in § 748.5(c) through (f) of the EAR) that require a license under new paragraph (a)(2) will be reviewed under a policy of denial.

4. License Exceptions for § 746.10 License Requirements

Under paragraph (c) (License Exceptions), this rule specifies that a limited number of license exceptions may overcome the license requirements in § 746.10(a)(1) for transactions involving Russia or Belarus. Specifically, the only license exceptions that are available to overcome the license requirements in § 746.10(a)(1) are as follows: License Exception BAG, excluding firearms and ammunition (paragraph (e)), § 740.14; and License Exception AVS for saloon stores and supplies under § 740.15(b)(3)(v), excluding saloon stores and supplies for any aircraft registered in, owned, or controlled by, or under charter or lease by Russia, Belarus or a national of Russia or Belarus. The limited AVS eligibility is included to cover third country airlines flying to Russia or Belarus.

This rule also specifies that no license exceptions may overcome the license requirements in § 746.10(a)(2) that apply to the designated Russian and Belarusian oligarchs and malign actors.

5. Addition of New Supplement To Identify `Luxury Goods' for Purposes of § 746.10

This final rule adds a new supplement no. 5 to part 746: `Luxury Goods' that Require a License for Export, Reexport, and Transfer (In-Country) to or within Russia or Belarus Pursuant to § 746.10(a)(1) and (2). This supplement is the listing of the `luxury goods' that are subject to the license requirements under paragraphs (a)(1) and (2) of § 746.10. This supplement includes three columns consisting of the Schedule B, 2-Digit Chapter Headings, and 10-Digit Commodity Descriptions and Per Unit Wholesale Price in the U.S. if applicable. This new supplement will assist exporters, reexporters, and transferors in determining whether an item at issue falls within the scope of this supplement no. 5 to part 746 and consequently will require a license under § 746.10(a)(1) and (2) of the EAR.

C. Conforming Changes

Based on the foregoing changes to the EAR, this final rule also makes certain conforming revisions to the Commerce Country Chart in supplement no. 1 to part 738.

1. Commerce Country Chart Changes

In supplement no. 1 to part 738 (Commerce Country Chart), as a conforming change, this final rule revises footnote 6 to add a reference to § 746.10 of the EAR for additional license requirements for exports, reexports, or transfers (in-country) to or within Russia or Belarus involving `luxury goods' “subject to the EAR” that are identified in supplement no. 5 to part 746 of the EAR, to facilitate exporters', reexporters', and transferors' awareness of the need to review the license requirements in § 746.10.

Savings Clause

For the changes being made in this final rule, shipments of items removed from eligibility for a License Exception or export, reexport, or transfer (in-country) without a license (NLR) as a result of this regulatory action that were en route aboard a carrier to a port of export, reexport, or transfer (in-country), on March 11, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule. The International Emergency Economic Powers Act (IEEPA) (codified, as amended, at 50 U.S.C. 1701 et seq.) and the Executive Order on Prohibiting Certain Imports, Exports, and New Investment with Respect to Continued Russian Federation Aggression, dated March 11, 2022 also serve as additional authorities for this rule. To the extent it applies to certain activities that are the subject of this rule, the Trade Sanctions Reform and Export Enhancement Act of 2000 (TSRA) (codified, as amended, at 22 U.S.C. 7201-7211) also serves as authority for this rule.

Rulemaking Requirements

1. This final rule is not a “significant regulatory action” because it “pertain[s]” to a “military or foreign affairs function of the United States” under sec. 3(d)(2) of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves three collections of information. BIS believes there will be minimal burden changes to two of these collections—Five-Year Records Retention Requirement for Export Transactions and Boycott Actions (OMB control number 0694-0096) and Automated Export System (AES) Program (OMB control number 0607-0152).

However, “Multi-Purpose Application (OMB control number 0694-0088) will exceed existing estimates currently associated with this collection as the respondent burden will increase the estimated number of submissions by 750 for license applications submitted annually to BIS. BIS estimates the burden hours associated with this collection would increase by 382 (i.e., 750 applications × 30.6 minutes per response) for a total estimated cost increase of $11,460 (i.e., 382 hours × $30 per hour). The $30 per hour cost estimate for OMB control number 0694-0088 is consistent with the salary data for export compliance specialists currently available through glassdoor.com (glassdoor.com estimates that an export compliance specialist makes $55,280 annually, which computes to roughly $26.58 per hour). Consistent with 5 CFR 1320.13, BIS requested, and OMB has approved, emergency clearance for an increase in the burden estimate due to the additional license requirements imposed by this rule.

3. This rule does not contain policies with federalism implications as that term is defined in Executive Order 13132.

4. Pursuant to section 1762 of the Export Control Reform Act of 2018 (50 U.S.C. 4821) (ECRA), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects

15 CFR Part 738

Exports.

15 CFR Part 746

Exports, Reporting and recordkeeping requirements.

For the reasons stated in the preamble, parts 738 and 746 of the Export Administration Regulations (15 CFR parts 730 through 774) are amended as follows:

PART 738—COMMERCE CONTROL LIST OVERVIEW AND THE COUNTRY CHART

1. The authority citation for 15 CFR part 738 continues to read as follows:

Authority: 50 U.S.C. 4801-4852; 50 U.S.C. 4601 et seq.; 50 U.S.C. 1701 et seq.; 10 U.S.C. 8720; 10 U.S.C. 8730(e); 22 U.S.C. 287c; 22 U.S.C. 2151 note; 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

2. Supplement no. 1 to part 738 is amended by revising footnote 6 to read as follows:

Supplement No. 1 to Part 738—Commerce Country Chart

* * * * *

⁶ See § 746.5 of the EAR for additional license requirements under the Russian industry sector sanctions for ECCNs 0A998, 1C992, 3A229, 3A231, 3A232, 6A991, 8A992, and 8D999 and items identified in supplements no. 2 and no. 4 to part 746 of the EAR. See § 746.8 of the EAR for Sanctions against Russia and Belarus, including additional license requirements for items listed in any ECCN in Categories 3, 4, 5, 6, 7, 8, or 9 of the CCL. See § 746.10 of the EAR for additional license requirements that apply to Russia and Belarus and to certain Russian and Belarusian oligarchs and malign actors regardless of their destination, for `luxury goods' “subject to the EAR,” as identified in supplement no. 5 to part 746 of the EAR.

* * * * *

PART 746—EMBARGOES AND OTHER SPECIAL CONTROLS

3. The authority citation for 15 CFR part 746 is continues to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 6, 2021, 86 FR 26793 (May 10, 2021).

4. Section 746.10 is added to read as follows:

§ 746.10 `Luxury goods' sanctions against Russia and Belarus and Russian and Belarusian oligarchs and malign actors.

(a) License requirements—(1) `Luxury goods' license requirements for Russia and Belarus. In addition to the license requirements specified on the Commerce Control List (CCL) in supplement no. 1 to part 774 of the EAR and in other provisions of the EAR, including part 744 and §§ 746.5 and 746.8, a license is required to export, reexport, or transfer (in-country) to or within Russia or Belarus any `luxury good' subject to the EAR, as identified in supplement no. 5 to this part.

(2) Worldwide license requirement for `luxury goods' for Russian and Belarusian oligarch and malign actors. In addition to the license requirements specified on the Commerce Control List (CCL) in supplement no. 1 to part 774 of the EAR and in other provisions of the EAR, including part 744 and §§ 746.5 and 746.8, a license is required to export, reexport, or transfer (in-country) worldwide any `luxury good' subject to the EAR, as identified in supplement no. 5 to this part, to any Russian or Belarusian oligarch or malign actor, regardless of location, who are designated on the Department of the Treasury, Office of Foreign Assets Control's (OFAC) List of Specially Designated Nationals and Blocked Persons (SDN List) with any of the following designations: [RUSSIA-EO14024], [UKRAINE-EO13660], [UKRAINE-EO13661], [UKRAINE-EO13662], [UKRAINE-EO13685], [BELARUS], and [BELARUS-EO14038] or in situations in which any such Russian or Belarusian oligarch or malign actor is a party to the transaction as described in § 748.5(c) through (f). For purposes of this paragraph (a)(2), an `oligarch or malign actor' is any natural person that is designated on the SDN List with any of the designations referenced in this paragraph (a)(2).

Note to paragraph (a): For purposes of paragraphs (a)(1) and (2) of this section, a `luxury good' means any item that is identified in supplement no. 5 to this part.

(b) Licensing policy. Applications for the export, reexport, or transfer (in-country) of any item that requires a license for export or reexport to or transfer (in-country) pursuant to the requirements of this section will be reviewed with a policy of denial.

(c) License exceptions. No license exceptions may overcome the license requirements in paragraph (a)(1) of this section except the license exceptions identified in paragraphs (c)(1) and (2) of this section. No license exceptions may overcome the license requirements in paragraph (a)(2) of this section.

(1) License Exception BAG, excluding firearms and ammunition (§ 740.14, excluding paragraph (e), of the EAR).

(2) License Exception AVS for saloon stores and supplies, excluding any saloon stores and supplies for aircraft registered in, owned, or controlled by, or under charter or lease by Russia or Belarus or a national of Russia or Belarus (§ 740.15(b)(3)(v) of the EAR).

5. Add supplement no. 5 to part 746 to read as follows:

Supplement No. 5 to Part 746—`Luxury Goods' That Require a License for Export, Reexport, and Transfer (In-Country) to or Within Russia or Belarus Pursuant to § 746.10(a)(1) and (2)

The source for the Schedule B numbers and descriptions in this list is the Bureau of the Census's Schedule B concordance of exports 2022. Census's Schedule B List 2022 can be found at www.census.gov/foreign-trade/aes/documentlibrary/#concordance. The Introduction Chapter of the Schedule B provides important information about classifying products and interpretations of the Schedule B, e.g., NESOI means Not Elsewhere Specified or Included. In addition, important information about products within a particular chapter may be found at the beginning of chapters. This supplement includes three columns consisting of the Schedule B, 2-Digit Chapter Heading, and 10-Digit Commodity Description and Per Unit Wholesale Price in the U.S. if applicable to assist exporters, reexporters, and transferors in identifying the products in this supplement. For purposes of § 746.10(a)(1) and (2), a `luxury good' means any item that is identified in this supplement.

Schedule B | 2-Digit chapter heading | 10-Digit commodity description and per unit wholesale price in the U.S. if applicable
2203000000 | Beverages, spirits and vinegar | BEER MADE FROM MALT.
2204100000 | Beverages, spirits and vinegar | SPARKLING WINE OF FRESH GRAPES.
2204212000 | Beverages, spirits and vinegar | EFFERVESCENT WINE OF FRSH GRAPE IN CNTR 2L OR LESS.
2204214000 | Beverages, spirits and vinegar | GRAPE WINE NESOI NOV 14% ALCOHOL CNTRS 2L OR LESS.
2204217000 | Beverages, spirits and vinegar | GRAPE WINE NESOI OVER 14% ALCOHOL CNTRS 2L OR LESS.
2204220020 | Beverages, spirits and vinegar | GRAPE WINE NESOI NOV 14% ALCOHOL CNTRS > 2 < 10L.
2204220040 | Beverages, spirits and vinegar | GRAPE WINE NESOI OVER 14% ALCOHOL CNTRS > 2 < 10 L.
2204290120 | Beverages, spirits and vinegar | GRAPE WINE NESOI NOV 14% ALCOHOL CNTRS OV 10 L.
2204290140 | Beverages, spirits and vinegar | GRAPE WINE NESOI OVER 14% ALCOHOL CNTRS OV 10 L.
2204300000 | Beverages, spirits and vinegar | GRAPE MUST FERMNTATN PREV/ARRSTD BY ALCOH, EX 2009.
2205100000 | Beverages, spirits and vinegar | VERMOUTH/GRPE WINE FLAVRD WTH PLANTS ETC CTR LE 2L.
2205900000 | Beverages, spirits and vinegar | VERMOUTH/GRAPE WINE FLAVORED WTH PLANTS ETC OV 2LS.
2206001500 | Beverages, spirits and vinegar | CIDER, WHETHER STILL OR SPARKLING.
2206007000 | Beverages, spirits and vinegar | FERMENTED BEVERAGES, NESOI.
2207103000 | Beverages, spirits and vinegar | ETHYL ALCOHOL UNDENATURED 80%/HIGHER, FOR BEVERAGE.
2208200000 | Beverages, spirits and vinegar | GRAPE BRANDY.
2208306020 | Beverages, spirits and vinegar | WHISKIES, BOURBON, CONTAINERS NOT OVER 4 LITERS EA.
2208306040 | Beverages, spirits and vinegar | WHISKIES, BOURBON, CONTAINERS OVER 4 LITERS EACH.
2208309025 | Beverages, spirits and vinegar | RYE WHISKIES EX BOURBON, IN CONTAINERS NT OVER 4L.
2208309030 | Beverages, spirits and vinegar | WHISKIES EX BOURBON, IN CONTAINERS NT OV 4L, NESOI.
2208309040 | Beverages, spirits and vinegar | WHISKIES EX BOURBON, CONTAINERS OVER 4 LITERS.
2208400030 | Beverages, spirits and vinegar | RUM AND TAFIA, CONTAINERS NOT OVER 4 LITERS EACH.
2208400050 | Beverages, spirits and vinegar | RUM AND TAFIA, CONTAINERS OVER 4 LITERS.
2208500000 | Beverages, spirits and vinegar | GIN AND GENEVA.
2208600000 | Beverages, spirits and vinegar | VODKA.
2208700000 | Beverages, spirits and vinegar | LIQUEURS AND CORDIALS.
2208904600 | Beverages, spirits and vinegar | KIRSCHWASSER AND RATAFIA.
2208905100 | Beverages, spirits and vinegar | TEQUILA.
2208909002 | Beverages, spirits and vinegar | OTHER SPIRITUOUS BEVERAGES, NESOI.
2401102020 | Tobacco and manufactured tobacco substitutes | CONN. SHADE TOBACCO, NOT STEM/STRIP OV 35% WRAPPER.
2401102040 | Tobacco and manufactured tobacco substitutes | TOBACCO NOT STEM/STRIP OVER 35% WRAPPER TOB, NESOI.
2401105130 | Tobacco and manufactured tobacco substitutes | FLUE-CURED CIG LEAF TOB NT STEM/STRIP LT 35% WRPPR.
2401105160 | Tobacco and manufactured tobacco substitutes | BURLEY CIG LEAF TOBACCO NT STEM/STRIP LT 35% WRPPR.
2401105180 | Tobacco and manufactured tobacco substitutes | MARYLAND CIG LEAF TOB NOT STEM/STRIP LT 35% WRPPR.
2401105195 | Tobacco and manufactured tobacco substitutes | OTHER CIG LEAF TOB NOT STEM/STRIP LT 35% WRAPPER.
2401105340 | Tobacco and manufactured tobacco substitutes | CIGAR BINDER TOBACCO, NOT STEM/STRIP LT 35% WRAPPR.
2401108010 | Tobacco and manufactured tobacco substitutes | DARK-FIRED KY/TENN TOB NOT STEM/STRIP LT 35% WRPPR.
2401108020 | Tobacco and manufactured tobacco substitutes | VA FIRE/SUN-CURED TOB, NOT STEM/STRIP LT 35% WRPPR.
2401109530 | Tobacco and manufactured tobacco substitutes | BLACKFAT TOBACCO, NT STEM/STRIP LT 35% WRAPPER TOB.
2401109570 | Tobacco and manufactured tobacco substitutes | TOBACCO NESOI NOT STEM/STRIP, LESS THAN 35% WRPPR.
2401202020 | Tobacco and manufactured tobacco substitutes | CONN SHADE TOB STEM/STRIP NT THRESHED OV 35% WRPPR.
2401202040 | Tobacco and manufactured tobacco substitutes | TOBACCO NESOI STEM/STRIP NOT THRESHED OV 35% WRPPR.
2401202810 | Tobacco and manufactured tobacco substitutes | FLUE-CURED TOB STEM/STRIP NT THRESHED LT 35% WRPPR.
2401202820 | Tobacco and manufactured tobacco substitutes | BURLEY TOB STEM/STRIP NOT THRESHED LT 35% WRAPPER.
2401202830 | Tobacco and manufactured tobacco substitutes | MARYLAND TOB STEM/STRIP NOT THRESHED LT 35% WRPPR.
2401202970 | Tobacco and manufactured tobacco substitutes | CIGAR BIND TOB INC CIGAR LF NT THRESH LT 35% WRAPR.
2401205040 | Tobacco and manufactured tobacco substitutes | DARK-FIRED KY/TENN TOB STEM/STRIP NT THRSH LT 35%WR.
2401205050 | Tobacco and manufactured tobacco substitutes | VA FIRE/SUN-CURED TOB STEM/STRIP NT THRSH <35% WRPR.
2401205560 | Tobacco and manufactured tobacco substitutes | BLACKFAT TOB STEM/STRIP NOT THRESHED LT 35% WRAPPR.
2401205592 | Tobacco and manufactured tobacco substitutes | TOB NESOI STEM/STRIP, NOT THRESHED LT 35% WRPR TOB.
2401206020 | Tobacco and manufactured tobacco substitutes | CONN SHADE TOB FROM CIGAR LEAF THRESHED STEM/STRIP.
2401206040 | Tobacco and manufactured tobacco substitutes | TOBACCO NESOI FROM CIGAR LEAF, THRESHED STEM/STRIP.
2401208005 | Tobacco and manufactured tobacco substitutes | CIGARETTE LEAF TOBACCO FLUE-CURED THRSH STEM/STRIP.
2401208011 | Tobacco and manufactured tobacco substitutes | TOBACCO FLUE-CURED THRESHED STEMMED/STRIPPED NESOI.
2401208015 | Tobacco and manufactured tobacco substitutes | CIGARETTE LEAF TOBACCO, BURLEY, THRESH, STEM/STRIP.
2401208021 | Tobacco and manufactured tobacco substitutes | TOBACCO, BURLEY, THRESHED, STEMMED/STRIPPED, NESOI.
2401208030 | Tobacco and manufactured tobacco substitutes | MARYLAND TOBACCO, THRESHED, STEMMED/STRIPPED.
2401208040 | Tobacco and manufactured tobacco substitutes | DARK-FIRED KENTUCKY/TENN TOBACCO THRESH STEM/STRIP.
2401208050 | Tobacco and manufactured tobacco substitutes | VA FIRE-CURED, SUN-CURED TOB THRESHED, STEM/STRIP.
2401208090 | Tobacco and manufactured tobacco substitutes | TOBACCO, THRESHED, PARTLY/WHOLLY STEM/STRIP, NESOI.
2401305000 | Tobacco and manufactured tobacco substitutes | TOBACCO STEMS.
2401309000 | Tobacco and manufactured tobacco substitutes | TOBACCO REFUSE, NESOI.
2402103030 | Tobacco and manufactured tobacco substitutes | SMALL CIGARS/CHEROOTS/CIGARILLOS W/TOB LT $.15 EA.
2402107000 | Tobacco and manufactured tobacco substitutes | CIGAR/CHEROOT/CIGARILLO CONTAINING TOBACCO NESOI.
2402200000 | Tobacco and manufactured tobacco substitutes | CIGARETTES CONTAINING TOBACCO.
2402900000 | Tobacco and manufactured tobacco substitutes | CIGAR/CHEROOT/CIGARILLO/CIGS OF TOB SUBSTITS NESOI.
2403110000 | Tobacco and manufactured tobacco substitutes | WATER PIPE TOBACCO.
2403190020 | Tobacco and manufactured tobacco substitutes | PIPE TOBACCO, IN RETAIL-SIZED PACKAGES.
2403190040 | Tobacco and manufactured tobacco substitutes | SMOKING TOBAC, EX/PIPE TOBAC, RETAIL-SIZED PKG, NES.
2403190060 | Tobacco and manufactured tobacco substitutes | SMOKING TOBACCO, NESOI.
2403910000 | Tobacco and manufactured tobacco substitutes | HOMOGENIZED OR RECONSTITUTED TOBACCO.
2403990030 | Tobacco and manufactured tobacco substitutes | CHEWING TOBACCO.
2403990040 | Tobacco and manufactured tobacco substitutes | SNUFF AND SNUFF FLOUR.
2403990050 | Tobacco and manufactured tobacco substitutes | MFG TOBACCO, SUBSTITUES, FLUE-CURED.
2403990065 | Tobacco and manufactured tobacco substitutes | PARTIALLY MANUFACTURED, BLENDED OR MIXED TOBACCO.
2403990075 | Tobacco and manufactured tobacco substitutes | MFG TOBACCO & SUBSTITUTES, NESOI, INCL EXTRACTS & ESSENCES.
2404110000 | Tobacco and manufactured tobacco substitutes | CONTAINING TOBACCO OR RECON TOBACDO, INTENDED FOR INHALATION W/O COMBUSTION.
2404120000 | Tobacco and manufactured tobacco substitutes | CONTAINING NICOTINE, INTENDED FOR INHALATION W/O COMBUSTION.
2404190000 | Tobacco and manufactured tobacco substitutes | PRODUCTS INTENDED FOR INHALATION, NESOI.
2404910000 | Tobacco and manufactured tobacco substitutes | NICOTINE PRODUCTS FOR ORAL INTAKE INTO THE HUMAN BODY.
2404920000 | Tobacco and manufactured tobacco substitutes | NICOTINE PRODUCTS INTENDED FOR TRANSDERMAL INTAKE INTO THE HUMAN BODY.
2404990000 | Tobacco and manufactured tobacco substitutes | NICOTINE PRODUCTS INTENDED FOR INTAKE INTO THE HUMAN BODY, NESOI.
3302900010 | Essential oils and resinoids; perfumery, cosmetic or toilet preparations | PERFUME OIL BLENDS, PROD USE FINISHED PERFUME BASE.
3303000000 | Essential oils and resinoids; perfumery, cosmetic or toilet preparations | PERFUMES AND TOILET WATERS.
3304100000 | Essential oils and resinoids; perfumery, cosmetic or toilet preparations | LIP MAKE-UP PREPARATIONS.
3304200000 | Essential oils and resinoids; perfumery, cosmetic or toilet preparations | EYE MAKE-UP PREPARATIONS.
3304910050 | Essential oils and resinoids; perfumery, cosmetic or toilet preparations | MAKE-UP POWDER, WHETHER/NT COMPRESSED, NESOI.
3304995000 | Essential oils and resinoids; perfumery, cosmetic or toilet preparations | BEAUTY & SKIN CARE PREPARATION, NESOI.
3307900000 | Essential oils and resinoids; perfumery, cosmetic or toilet preparations | PERFUMERY, COSMETIC OR TOILET PREPARATIONS, NESOI.
3916902000 | Plastics and articles thereof | RACQUET STRINGS, OF PLASTIC.
3926202500 | Plastics and articles thereof | GLOVES SPEC DESIGNED FOR USE IN SPORTS, PLASTIC.
3926400000 | Plastics and articles thereof | STATUETTES & OTHER ORNAMENTAL ARTICLES, OF PLASTIC.
3926903000 | Plastics and articles thereof | PARTS FOR YACHTS OR PLEASURE BOATS, ETC.
4202110000 | Articles of leather; saddlery and harness; travel goods, handbags and similar containers; articles of animal gut (other than silkworm gut) | TRUNKS, SUITCASES, ETC, SURFACE COMPS/PATENT LEATHER.
4202120000 | Articles of leather; saddlery and harness; travel goods, handbags and similar containers; articles of animal gut (other than silkworm gut) | TRUNKS, SUITCASES, ETC, SURFACE PLASTIC/TEXT MATERLS.
4202190000 | Articles of leather; saddlery and harness; travel goods, handbags and similar containers; articles of animal gut (other than silkworm gut) | TRUNKS, SUITCASES, VANITY CASES ETC, NESOI.
4202210000 | Articles of leather; saddlery and harness; travel goods, handbags and similar containers; articles of animal gut (other than silkworm gut) | HANDBAGS, SURFACE OF COMPOSITION/PATENT LEATHER.
4202220000 | Articles of leather; saddlery and harness; travel goods, handbags and similar containers; articles of animal gut (other than silkworm gut) | HANDBAGS, SURFACE OF PLASTIC SHEET/TEXT MATERIALS.
4202290000 | Articles of leather; saddlery and harness; travel goods, handbags and similar containers; articles of animal gut (other than silkworm gut) | HANDBAGS, NESOI.
4202310000 | Articles of leather; saddlery and harness; travel goods, handbags and similar containers; articles of animal gut (other than silkworm gut) | ARTICLES FOR POCKET OR HANDBAG, COMP/PATENT LEATHER.
4202320000 | Articles of leather; saddlery and harness; travel goods, handbags and similar containers; articles of animal gut (other than silkworm gut) | ARTICLES FOR POCKET/HANDBAG, PLASTIC/TEXT MATERIAL.
4202390000 | Articles of leather; saddlery and harness; travel goods, handbags and similar containers; articles of animal gut (other than silkworm gut) | ARTICLES FOR POCKET OR HANDBAG, NESOI.
4202910010 | Articles of leather; saddlery and harness; travel goods, handbags and similar containers; articles of animal gut (other than silkworm gut) | GOLF BAGS, OUTER SURFACE LEATHER.
4202910040 | Articles of leather; saddlery and harness; travel goods, handbags and similar containers; articles of animal gut (other than silkworm gut) | OTHER BAGS, OUTER SURFACE COMPS/PATENT LEATH, NESOI.
4202990000 | Articles of leather; saddlery and harness; travel goods, handbags and similar containers; articles of animal gut (other than silkworm gut) | CASES, BAGS & CONT, OTHER OF MATR/COVERINGS, NESOI.
4203400000 | Articles of leather; saddlery and harness; travel goods, handbags and similar containers; articles of animal gut (other than silkworm gut) | OTH CLOTHING ACCESSORIES, LEATHER/COMPOS LEATHER.
4301100000 | Furskins and artificial fur; manufactures thereof | MINK FURSKINS, RAW, WHOLE.
4301300000 | Furskins and artificial fur; manufactures thereof | ASTRAKHAN, INDIAN, ETC LAMB FURSKINS, RAW, WHOLE.
4301600000 | Furskins and artificial fur; manufactures thereof | FOX FURSKINS, RAW, WHOLE.
4301800210 | Furskins and artificial fur; manufactures thereof | NUTRIA FURSKINS, RAW, WHOLE.
4301800297 | Furskins and artificial fur; manufactures thereof | FURSKINS NESOI, RAW, WHOLE.
4301900000 | Furskins and artificial fur; manufactures thereof | HEADS/PCS, CUTTINGS ETC FURSKINS FOR FURRIERS' USE.
4302110000 | Furskins and artificial fur; manufactures thereof | MINK FURSKINS, WHOLE, TANNED/DRESSED NOT ASSEMBLED.
4302191300 | Furskins and artificial fur; manufactures thereof | PERSIAN ETC LAMB FURSKIN WHOLE TANNED NOT ASSEMBLE.
4302195000 | Furskins and artificial fur; manufactures thereof | FURSKINS NESOI, WHOLE TANNED/DRESSED NOT ASSEMBLED.
4302200000 | Furskins and artificial fur; manufactures thereof | FURSKIN PIECES/CUTTINGS TANNED/DRESSED NT ASSEMBLD.
4302300000 | Furskins and artificial fur; manufactures thereof | FURSKINS, WHOLE AND PIECES, TANNED, ASSEMBLED.
4303100030 | Furskins and artificial fur; manufactures thereof | MINK FURSKIN ARTICLES, APPAREL, CLOTHING ACCESSORY.
4303100060 | Furskins and artificial fur; manufactures thereof | FURSKIN ARTICLE APPAREL CLOTHING ACCESSORIES NESOI.
4303900000 | Furskins and artificial fur; manufactures thereof | ARTICLES OF FURSKINS, NESOI.
4304000000 | Furskins and artificial fur; manufactures thereof | ARTIFICIAL FUR AND ARTICLES THEREOF.
4420110000 | Wood and articles of wood; wood charcoal | STATUETTES AND OTHER ORNAMENTS OF TROPICAL WOOD.
4420190000 | Wood and articles of wood; wood charcoal | STATUETTES AND OTHER ORNAMENTS, OF WOOD, NESOI.
4907000000 | Printed books, newspapers, pictures and other products of the printing industry; manuscripts, typescripts and plans | UNUSED POSTAGE; BANKNOTES; CHECK FORMS; STOCK, ETC.
5001000000 | Silk | SILKWORM COCOONS SUITABLE FOR REELING.
5002000000 | Silk | RAW SILK (NOT THROWN).
5003001000 | Silk | SILK WASTE, NOT CARDED OR COMBED.
5003009000 | Silk | SILK WASTE, OTHER.
5004000000 | Silk | SILK YARN NOT PUT UP FOR RETAIL SALE.
5005000000 | Silk | YARN SPUN FROM SILK WASTE NOT PUT UP RETAIL SALE.
5006000000 | Silk | SILK YARN&YARN/SILK WASTE, RETAIL SALE, SILKWORM GUT.
5007100000 | Silk | WOVEN FABRICS OF NOIL SILK.
5007200000 | Silk | OTHER FABRICS GE 85% SILK/SILK WASTE, NOT NOIL SILK.
5007900000 | Silk | WOVEN FABRICS OF SILK OR SILK WASTE—OTHER NESOI.
5603941000 | Wadding, felt and nonwovens; special yarns, twine, cordage, ropes and cables and articles thereof | NONWOV GT 150G/M2, NT MMF FLOOR COVERING UNDERLAYS.
5701100000 | Carpets and other textile floor coverings | CARPETS&OTH TEX FLOOR COVR, WOOL/FINE ANML HR, KNOTD.
5701900000 | Carpets and other textile floor coverings | CARPETS&OTH TEX FLOOR COVR, OTH TEX MATERIALS, KNOTD.
5702100000 | Carpets and other textile floor coverings | KELEM, SCHUMACKS, KARAMANIE, &SIMILAR HAND-WOVEN RUGS.
5702200000 | Carpets and other textile floor coverings | FLOOR COVERINGS OF COCONUT FIBERS (COIR), WOVEN.
5702310000 | Carpets and other textile floor coverings | CARPETS, ETC OF WOOL/FINE ANIMAL HR, PILE, NT MADE-UP.
5702320000 | Carpets and other textile floor coverings | CARPETS, ETC OF MMF TEXTL MATERIAL, PILE, NOT MADE-UP.
5702390000 | Carpets and other textile floor coverings | CARPETS, ETC OF OTHER TEXTL MATERL, PILE, NOT MADE-UP.
5702410000 | Carpets and other textile floor coverings | CARPETS, ETC OF WOOL/FINE ANIMAL HAIR, PILE, MADE-UP.
5702420000 | Carpets and other textile floor coverings | CARPETS, ETC OF MMF TEXTILE MATERIALSS, PILE, MADE-U.
5702490000 | Carpets and other textile floor coverings | CARPETS, ETC OTHR TEX MATRL, PILE, MADE-UP, NOT TUFTED.
5702503000 | Carpets and other textile floor coverings | CARPETS, ETC WOOL/FINE ANML HR, WOVN, NOT PILE/MDE-UP.
5702505200 | Carpets and other textile floor coverings | TEX CARPETS, WOV NT PILE, MM TEX MAT, NT MADE UP.
5702509000 | Carpets and other textile floor coverings | CARPETS, ETC OTHR TEX MAT, WOV, NOT PILE/MADE-UP/TUFT.
5702910000 | Carpets and other textile floor coverings | CARPETS, ETC WOOL/FINE ANML HR, WOVN, MADE-UP, NT PILE.
5702920000 | Carpets and other textile floor coverings | TEXTILE CARPETS, WOV NO PILE, MMF, MADE UP.
5702990000 | Carpets and other textile floor coverings | CARPETS, ETC OTHR TEX MAT, WOV, MADE-UP, NOTPILE/TUFT.
5703100000 | Carpets and other textile floor coverings | TEXTILE CARPETS, TUFTED, OF WOOL.
5703210000 | Carpets and other textile floor coverings | TURF OF NYLON OR OTHER POLYAMIDES.
5703290000 | Carpets and other textile floor coverings | CARPETS, ETC, NYLON/OTHR POLYAMIDES, TUFTD, W/N MDE-UP, NESOI.
5703310000 | Carpets and other textile floor coverings | TURF OF OTHER MAN-MADE TEXTILE MATERIALS.
5703390000 | Carpets and other textile floor coverings | CARPETS, ETC, TUFTED,W/N MDE-UP, NESOI.
5703900000 | Carpets and other textile floor coverings | TEXTILE CARPETS, TUFTED, TEXTILE MATERIALS NESOI.
5704100000 | Carpets and other textile floor coverings | TEXTILE CARPETS, FELT, NO TUFT, TILES SUR NOV .3M2.
5704200000 | Carpets and other textile floor coverings | TEXTILE CARPETS, FELT, NOT TUFTED, SA 0.3M2 & 1M2.
5704900100 | Carpets and other textile floor coverings | TEXTILE CARPETS, FELT, NOT TUFTED, SA OTHER.
5705000000 | Carpets and other textile floor coverings | OTHR CARPETS&OTHR TEX FLOOR COV, WHETHR/NOT MADE-UP.
5805000000 | Special woven fabrics; tufted textile fabrics; lace, tapestries; trimmings; embroidery | HAND-WOV TAPESTR WALL HANG USE ONLY GT $251/SQ MTR.
5806393010 | Special woven fabrics; tufted textile fabrics; lace, tapestries; trimmings; embroidery | NAR WOV FAB 85% OR MORE BY WGT SILK, NESOI.
5905000000 | Impregnated, coated, covered or laminated textile fabrics; textile articles of a kind suitable for industrial use | TEXTILE WALL COVERINGS.
6110301070 | Articles of apparel and clothing accessories, knitted or crocheted | M/B SWEATERS OF MMF CONT 25% MORE LEATHER, KNIT, AND VALUED AT $1,000 PER UNIT WHOLESALE PRICE IN THE U.S.
6110301080 | Articles of apparel and clothing accessories, knitted or crocheted | W/G VESTS EX SWEATER OF MMF CONT 25% LEATHER, KNIT, AND VALUED AT $1,000 PER UNIT WHOLESALE PRICE IN THE U.S.
6110301570 | Articles of apparel and clothing accessories, knitted or crocheted | M/B SWEATERS & SIMILAR ART MMF GE 23% W/FAH KNIT, AND VALUED AT $1,000 PER UNIT WHOLESALE PRICE IN THE U.S.
6110301580 | Articles of apparel and clothing accessories, knitted or crocheted | W/G SWEATRS, PULLOVRS, SIM ARTS MMF GE 23% W/FAH KNT, AND VALUED AT $1,000 PER UNIT WHOLESALE PRICE IN THE U.S.
6110302070 | Articles of apparel and clothing accessories, knitted or crocheted | M/B SWEATERS & SIM ART MMF GE 30% SLK, SLK WST KNIT, AND VALUED AT $1,000 PER UNIT WHOLESALE PRICE IN THE U.S.
6110302080 | Articles of apparel and clothing accessories, knitted or crocheted | W/G SWEATRS, PULLOVERS, SIM ARTS MMF GE 30% SLK KNIT, AND VALUED AT $1,000 PER UNIT WHOLESALE PRICE IN THE U.S.
6112110015 | Articles of apparel and clothing accessories, knitted or crocheted | M/B JACKETS FOR TRACK SUITS ETC COTTON, KNIT, AND VALUED AT $1,000 PER UNIT WHOLESALE PRICE IN THE U.S.
6112110035 | Articles of apparel and clothing accessories, knitted or crocheted | W/G JACKETS FOR TRACK SUITS ETC OF COTTON, KNIT, AND VALUED AT $1,000 PER UNIT WHOLESALE PRICE IN THE U.S.
6112110050 | Articles of apparel and clothing accessories, knitted or crocheted | M/B TROUSERS FOR TRACK SUITS OF COTTON, KNIT, AND VALUED AT $1,000 PER UNIT WHOLESALE PRICE IN THE U.S.
6112110060 | Articles of apparel and clothing accessories, knitted or crocheted | W/G TROUSERS FOR TRACK SUITS OF COTTON, KNIT, AND VALUED AT $1,000 PER UNIT WHOLESALE PRICE IN THE U.S.
6112120015 | Articles of apparel and clothing accessories, knitted or crocheted | M/B JACKETS FOR TRACK SUITS ETC SYN FIBERS, KNIT, AND VALUED AT $1,000 PER UNIT WHOLESALE PRICE IN THE U.S.
6112120035 | Articles of apparel and clothing accessories, knitted or crocheted | W/G JACKETS FOR TRACK SUITS ETC SYN FIBERS, KNIT, AND VALUED AT $1,000 PER UNIT WHOLESALE PRICE IN THE U.S.
6112120050 | Articles of apparel and clothing accessories, knitted or crocheted | M/B TROUSERS FOR TRACK SUITS OF SYN FIBERS, KNIT, AND VALUED AT $1,000 PER UNIT WHOLESALE PRICE IN THE U.S.
6112120060 | Articles of apparel and clothing accessories, knitted or crocheted | W/G TROUSERS FOR TRACK SUITS OF SYN FIBERS, KNIT, AND VALUED AT $1,000 PER UNIT WHOLESALE PRICE IN THE U.S.
6112191000 | Articles of apparel and clothing accessories, knitted or crocheted | TRACK WARM-UP AND JOGGING SUITS ARTIFICIAL FIB, KT, AND VALUED AT $1,000 PER UNIT WHOLESALE PRICE IN THE U.S.
6112192000 | Articles of apparel and clothing accessories, knitted or crocheted | TRACK WARM-UP & JOGGING SUITS OT TEXTILE FIBER, KT, AND VALUED AT $1,000 PER UNIT WHOLESALE PRICE IN THE U.S.
6112201000 | Articles of apparel and clothing accessories, knitted or crocheted | SKI SUITS OF MANMADE FIBERS, KNITTED OR CROCHETED, AND VALUED AT $1,000 PER UNIT WHOLESALE PRICE IN THE U.S.
6112202000 | Articles of apparel and clothing accessories, knitted or crocheted | SKI SUITS OF OTHER TEXTILE MATERIALS, KNITTED OR C, AND VALUED AT $1,000 PER UNIT WHOLESALE PRICE IN THE U.S.
6112310000 | Articles of apparel and clothing accessories, knitted or crocheted | MEN'S OR BOYS' SWIMWEAR OF SYNTHETIC FIBERS, KNITT, AND VALUED AT $1,000 PER UNIT WHOLESALE PRICE IN THE U.S.
6112390000 | Articles of apparel and clothing accessories, knitted or crocheted | M/B SWIMWEAR OF OTHER TEXTILE MATERIALS, KNIT, AND VALUED AT $1,000 PER UNIT WHOLESALE PRICE IN THE U.S.
6112410000 | Articles of apparel and clothing accessories, knitted or crocheted | WOMEN'S OR GIRLS' SWIMWEAR SYNTHETIC FIBERS, KNIT, AND VALUED AT $1,000 PER UNIT WHOLESALE PRICE IN THE U.S.
6112490000 | Articles of apparel and clothing accessories, knitted or crocheted | W/G SWIMWEAR OF OTHER TEXTILE MATERIALS, KNIT, AND VALUED AT $1,000 PER UNIT WHOLESALE PRICE IN THE U.S.
6206100000 | Articles of apparel and clothing accessories, not knitted or crocheted | W/G BLOUSES, SHIRTS AND SHIRT BLOUSES SILK, NT KT, AND VALUED AT $1,000 PER UNIT WHOLESALE PRICE IN THE U.S.
6211110000 | Articles of apparel and clothing accessories, not knitted or crocheted | MEN'S OR BOYS' SWIMWEAR, NOT KNITTED OR CROCHETED, AND VALUED AT $1,000 PER UNIT WHOLESALE PRICE IN THE U.S.
6211120000 | Articles of apparel and clothing accessories, not knitted or crocheted | WOMEN'S OR GIRLS' SWIMWEAR, NOT KNITTED OR CROCHET, AND VALUED AT $1,000 PER UNIT WHOLESALE PRICE IN THE U.S.
6211201500 | Articles of apparel and clothing accessories, not knitted or crocheted | WATER RESIST SKI-SUITS, NT KNITTED/CROCHETED NESOI, AND VALUED AT $1,000 PER UNIT WHOLESALE PRICE IN THE U.S.
6213900600 | Articles of apparel and clothing accessories, not knitted or crocheted | HANDKERCHIEFS, OF SILK OR SILK WASTE, AND VALUED AT $1,000 PER UNIT WHOLESALE PRICE IN THE U.S.
6214100000 | Articles of apparel and clothing accessories, not knitted or crocheted | SHAWLS SCARVES MUFFLERS MANTILLAS SILK SILK WASTE, AND VALUED AT $1,000 PER UNIT WHOLESALE PRICE IN THE U.S.
6215100000 | Articles of apparel and clothing accessories, not knitted or crocheted | TIES, BOW TIES AND CRAVATS, OF SILK OR SILK WASTE, AND VALUED AT $1,000 PER UNIT WHOLESALE PRICE IN THE U.S.
6301200000 | Other made up textile articles; sets; worn clothing and worn textile articles; rags | BLANKETS (NT ELEC) & TRAVELING RUGS OF WOOL HAIR.
6301300000 | Other made up textile articles; sets; worn clothing and worn textile articles; rags | BLANKETS (NT ELEC) & TRAVELING RUGS OF COTTON.
6301400000 | Other made up textile articles; sets; worn clothing and worn textile articles; rags | BLNKET (NT ELEC) & TRAVELING RUGS OF SYNTHETIC FIB.
6301900000 | Other made up textile articles; sets; worn clothing and worn textile articles; rags | OTHER BLANKETS AND TRAVELING RUGS.
6306221000 | Other made up textile articles; sets; worn clothing and worn textile articles; rags | BACKPACKING TENTS OF SYNTHETIC FIBERS.
6306229000 | Other made up textile articles; sets; worn clothing and worn textile articles; rags | TENTS OF SYNTHETIC FIBERS, NESOI.
6306291100 | Other made up textile articles; sets; worn clothing and worn textile articles; rags | TENTS, OF COTTON.
6306292100 | Other made up textile articles; sets; worn clothing and worn textile articles; rags | TENTS OF TEXTILE MATERIALS NESOI.
6306300010 | Other made up textile articles; sets; worn clothing and worn textile articles; rags | SAILS OF SYNTHETIC FIBERS.
6306300020 | Other made up textile articles; sets; worn clothing and worn textile articles; rags | SAILS OF TEXTILE MATERIALS NESOI.
6306901000 | Other made up textile articles; sets; worn clothing and worn textile articles; rags | CAMPING GOODS, NESOI, OF COTTON.
6306905000 | Other made up textile articles; sets; worn clothing and worn textile articles; rags | CAMPING GOODS OF TEXTILE MATERIALS NESOI.
6307200000 | Other made up textile articles; sets; worn clothing and worn textile articles; rags | LIFEJACKETS AND LIFEBELTS.
6308000000 | Other made up textile articles; sets; worn clothing and worn textile articles; rags | NEDCRFT SET WOV FAB & YRN/MAKNG RUG/TAPST PKG RT S.
6401923000 | Footwear, gaiters and the like; parts of such articles | WATERPROOF FTWR RUB/PLAS SKI & SNOWBOARD BOOTS, AND VALUED AT $1,000 PER UNIT WHOLESALE PRICE IN THE U.S.
6402120000 | Footwear, gaiters and the like; parts of such articles | SKI, CROSS-CTY&SNOWBOARD BOOTS W/RUBBER OR PLASTIC, AND VALUED AT $1,000 PER UNIT WHOLESALE PRICE IN THE U.S.
6402190000 | Footwear, gaiters and the like; parts of such articles | FOOTWEAR RUB PLAST STITCH SPORTS FOOTWEAR NESOI, AND VALUED AT $1,000 PER UNIT WHOLESALE PRICE IN THE U.S.
6402991815 | Footwear, gaiters and the like; parts of such articles | TENNIS, BASKETBALL, GYM, TRAINING SHOES AND LIKE, AND VALUED AT $1,000 PER UNIT WHOLESALE PRICE IN THE U.S.
6403120000 | Footwear, gaiters and the like; parts of such articles | FTWR W/LTHR UPP, SKI, CROSS-CTY & SNOWBOARD BOOTS, AND VALUED AT $1,000 PER UNIT WHOLESALE PRICE IN THE U.S.
6403190000 | Footwear, gaiters and the like; parts of such articles | FOOTWEAR LEA UPPER, SPORTS FOOTWEAR EXC SKI-BOOTS, AND VALUED AT $1,000 PER UNIT WHOLESALE PRICE IN THE U.S.
6403200000 | Footwear, gaiters and the like; parts of such articles | FTWR SOL LTHR UPPER LTHR STRAPS AND AROUND BIG TOE, AND VALUED AT $1,000 PER UNIT WHOLESALE PRICE IN THE U.S.
6403400000 | Footwear, gaiters and the like; parts of such articles | FOOTWEAR LEA UPPER NESOI WITH A METAL TOE-CAP, AND VALUED AT $1,000 PER UNIT WHOLESALE PRICE IN THE U.S.
6403511100 | Footwear, gaiters and the like; parts of such articles | FTWR BASE OF WOOD, LEATHER OUTER SOLE, COV ANK, AND VALUED AT $1,000 PER UNIT WHOLESALE PRICE IN THE U.S.
6403515000 | Footwear, gaiters and the like; parts of such articles | FOOTWEAR LEA UP NESOI LEA O SOL ANK COV MEN YOUTH, AND VALUED AT $1,000 PER UNIT WHOLESALE PRICE IN THE U.S.
6403518000 | Footwear, gaiters and the like; parts of such articles | FOOTWEAR LEA UPPER NESOI LEA O SOL ANKL COV NESOI, AND VALUED AT $1,000 PER UNIT WHOLESALE PRICE IN THE U.S.
6403591000 | Footwear, gaiters and the like; parts of such articles | FTWR BASE OF WOOD, LEATHER OUTER SOLE, NT COV ANK, AND VALUED AT $1,000 PER UNIT WHOLESALE PRICE IN THE U.S.
6403595000 | Footwear, gaiters and the like; parts of such articles | FOOTWEAR LEA UP A SOL NESOI NOT ANK COV MEN YOUTH, AND VALUED AT $1,000 PER UNIT WHOLESALE PRICE IN THE U.S.
6403598000 | Footwear, gaiters and the like; parts of such articles | FOOTWEAR LEA UP A SOL NESOI NOT ANK COV NESOI, AND VALUED AT $1,000 PER UNIT WHOLESALE PRICE IN THE U.S.
6403911300 | Footwear, gaiters and the like; parts of such articles | FOOTWEAR LEA UP NONLEA SOL ANKLE COV WORK SHOES, AND VALUED AT $1,000 PER UNIT WHOLESALE PRICE IN THE U.S.
6403911500 | Footwear, gaiters and the like; parts of such articles | FOOTWEAR LEA UP NONLEA SOL ANK TENNIS ETC MEN ETC, AND VALUED AT $1,000 PER UNIT WHOLESALE PRICE IN THE U.S.
6403915000 | Footwear, gaiters and the like; parts of such articles | FOOTWEAR LEA UP NONLEA SOL ANK COV NESOI MEN YOUTH, AND VALUED AT $1,000 PER UNIT WHOLESALE PRICE IN THE U.S.
6403918500 | Footwear, gaiters and the like; parts of such articles | FOOTWEAR LEA UP NONLEA SOL ANKCOV NESOI EX MN YTH, AND VALUED AT $1,000 PER UNIT WHOLESALE PRICE IN THE U.S.
6403991500 | Footwear, gaiters and the like; parts of such articles | FOOTWEAR LEA UP NONLEA SOL NOT ANKL HOUSE SLIPPERS, AND VALUED AT $1,000 PER UNIT WHOLESALE PRICE IN THE U.S.
6403992500 | Footwear, gaiters and the like; parts of such articles | FOOTWEAR LEA UP NONLEA SOL NOT ANKL WORK SHOES, AND VALUED AT $1,000 PER UNIT WHOLESALE PRICE IN THE U.S.
6403993500 | Footwear, gaiters and the like; parts of such articles | FOOTWEAR LEA UP NONLEA SOL NOTANK TENNIS MEN ETC, AND VALUED AT $1,000 PER UNIT WHOLESALE PRICE IN THE U.S.
6403995000 | Footwear, gaiters and the like; parts of such articles | FOOTWEAR LEA UP NONLEA SOL NOT ANK NESOI MEN YOUT, AND VALUED AT $1,000 PER UNIT WHOLESALE PRICE IN THE U.S.
6403998000 | Footwear, gaiters and the like; parts of such articles | FOOTWEAR LEA UP NONLEA SOL NOT ANK NESOI EX MN YTH, AND VALUED AT $1,000 PER UNIT WHOLESALE PRICE IN THE U.S.
6404110000 | Footwear, gaiters and the like; parts of such articles | FOOTWEAR TEX UP RUBPLAS SOL SPORT SHOES, AND VALUED AT $1,000 PER UNIT WHOLESALE PRICE IN THE U.S.
6404202500 | Footwear, gaiters and the like; parts of such articles | FOOTWEAR TEX UP LEA SOLE FOR MEN, AND VALUED AT $1,000 PER UNIT WHOLESALE PRICE IN THE U.S.
6404204500 | Footwear, gaiters and the like; parts of such articles | FOOTWEAR TEX UP LEA SOLE FOR WOMEN, AND VALUED AT $1,000 PER UNIT WHOLESALE PRICE IN THE U.S.
6404206500 | Footwear, gaiters and the like; parts of such articles | FOOTWEAR TEX UP LEA SOLE EXCEPT FOR MEN AND WOMEN, AND VALUED AT $1,000 PER UNIT WHOLESALE PRICE IN THE U.S.
6405100030 | Footwear, gaiters and the like; parts of such articles | FTWR W/UPPERS LETHER/COMPOSITION LEATHER MEN, NESOI, AND VALUED AT $1,000 PER UNIT WHOLESALE PRICE IN THE U.S.
6405100060 | Footwear, gaiters and the like; parts of such articles | OTH FTWEAR W UPPERS LEATHER/COMPOSITION LEATHER WM, AND VALUED AT $1,000 PER UNIT WHOLESALE PRICE IN THE U.S.
6405100090 | Footwear, gaiters and the like; parts of such articles | OTH FTWEAR W UPPERS LEATHER/COMP LEATHER OT PERSON, AND VALUED AT $1,000 PER UNIT WHOLESALE PRICE IN THE U.S.
6506100010 | Headgear and parts thereof | ATH, REC AND SPORT SAFETY HEADGEAR, LINED OR TRMED, AND VALUED AT $1,000 PER UNIT WHOLESALE PRICE IN THE U.S.
6506993000 | Headgear and parts thereof | HEADGR OF FURSKIN, WHETHER OR NT LINED/TRIMMD NESOI, AND VALUED AT $1,000 PER UNIT WHOLESALE PRICE IN THE U.S.
6701000000 | Prepared feathers and down and articles made of feathers or of down; artificial flowers; articles of human hair | SKINS & OTHR PTS OF BIRDS W/FEATHERS ETC EXC 0505.
6911101000 | Ceramic products | PORCLN/CHINA, HTL/RESTNT & OTHER WARE NOT HH WARE.
6911105500 | Ceramic products | TABLE/KITCHENWARE, PORCLN OR CHINA, NT HOTL/RESTNT.
6911900050 | Ceramic products | HOUSEHOLD ARTICLES OF PORCELAIN OR CHINA, NESOI.
6913100000 | Ceramic products | STATUETTES AND OTHER ORNMNTL ARTCLS, PORCLN OR CHN.
6913900000 | Ceramic products | STATUTTES A OTH ORNMNTL CERAM ARTCLS NT PORC/CHINA.
6914100000 | Ceramic products | ARTICLES OF PORCELAIN OR CHINA, NESOI.
6914900000 | Ceramic products | CERAMIC ARTICLES NESOI.
7013220000 | Glass and glassware | STEMWARE DRINKING GLASSES OF LEAD CRYSTAL.
7013330000 | Glass and glassware | DRINKING GLASSES OF LEAD CRYSTAL.
7013410000 | Glass and glassware | TBL O KTCHN GLSSWR NT DRNKNG GLSS OF LEAD CRYSTAL.
7013910000 | Glass and glassware | OTHER GLASSWARE, LEAD CRYSTAL, NESOI.
7101100000 | Natural or cultured pearls, precious or semi-precious stones, precious metals, metals clad with precious metal and articles thereof; imitation jewelry; coin | NATURAL PEARLS, NOT MOUNTED OR SET, INCL TMP STRNG.
7101210000 | Natural or cultured pearls, precious or semi-precious stones, precious metals, metals clad with precious metal and articles thereof; imitation jewelry; coin | CULTURED PEARLS, UNWORKED.
7101220000 | Natural or cultured pearls, precious or semi-precious stones, precious metals, metals clad with precious metal and articles thereof; imitation jewelry; coin | CULTURED PEARLS, WORKED, NOT SET.
7102100000 | Natural or cultured pearls, precious or semi-precious stones, precious metals, metals clad with precious metal and articles thereof; imitation jewelry; coin | DIAMONDS, UNSORTED.
7103102000 | Natural or cultured pearls, precious or semi-precious stones, precious metals, metals clad with precious metal and articles thereof; imitation jewelry; coin | UNWORKED PRECIOUS & SEMI-PREC STONES (EXC DIAMOND).
7103104000 | Natural or cultured pearls, precious or semi-precious stones, precious metals, metals clad with precious metal and articles thereof; imitation jewelry; coin | SAWN/ROUGH SHAPE PREC&SEMI-PREC ST(EXC DIAM)NESOI.
7103910000 | Natural or cultured pearls, precious or semi-precious stones, precious metals, metals clad with precious metal and articles thereof; imitation jewelry; coin | RUBIES, SAPPHIRES AND EMERALDS, OTHERWISE WORKED.
7103991000 | Natural or cultured pearls, precious or semi-precious stones, precious metals, metals clad with precious metal and articles thereof; imitation jewelry; coin | GEMSTONES, NESOI, CUT BUT NOT SET SUITBL FR JEWLRY.
7104200000 | Natural or cultured pearls, precious or semi-precious stones, precious metals, metals clad with precious metal and articles thereof; imitation jewelry; coin | SYNTHC OR RECNSTRCTD GEMSTONES UNWORKED.
7104901000 | Natural or cultured pearls, precious or semi-precious stones, precious metals, metals clad with precious metal and articles thereof; imitation jewelry; coin | SYN/RECON, GEMSTONES, CUT BUT NOT SET FOR JEWELRY.
7104905000 | Natural or cultured pearls, precious or semi-precious stones, precious metals, metals clad with precious metal and articles thereof; imitation jewelry; coin | SYN, RCNSTR GMSTONES WRKD NT SUITBL FOR JEWELRY.
7106911010 | Natural or cultured pearls, precious or semi-precious stones, precious metals, metals clad with precious metal and articles thereof; imitation jewelry; coin | SILVER BULLION, UNWROUGHT.
7106911020 | Natural or cultured pearls, precious or semi-precious stones, precious metals, metals clad with precious metal and articles thereof; imitation jewelry; coin | SILVER DORE.
7106915000 | Natural or cultured pearls, precious or semi-precious stones, precious metals, metals clad with precious metal and articles thereof; imitation jewelry; coin | UNWROUGHT SILVER, NESOI.
7106920000 | Natural or cultured pearls, precious or semi-precious stones, precious metals, metals clad with precious metal and articles thereof; imitation jewelry; coin | SILVER, SEMIMANUFACTURED.
7108121010 | Natural or cultured pearls, precious or semi-precious stones, precious metals, metals clad with precious metal and articles thereof; imitation jewelry; coin | GOLD BULLION UNWROUGHT, NONMONETARY.
7108121020 | Natural or cultured pearls, precious or semi-precious stones, precious metals, metals clad with precious metal and articles thereof; imitation jewelry; coin | GOLD DORE, UNWROUGHT, NONMONETARY.
7108125000 | Natural or cultured pearls, precious or semi-precious stones, precious metals, metals clad with precious metal and articles thereof; imitation jewelry; coin | GOLD, NESOI, UNWROUGHT, NONMONETARY.
7108135000 | Natural or cultured pearls, precious or semi-precious stones, precious metals, metals clad with precious metal and articles thereof; imitation jewelry; coin | GOLD, SEMIMANUFACTURED, NESOI, NONMONETARY.
7113110000 | Natural or cultured pearls, precious or semi-precious stones, precious metals, metals clad with precious metal and articles thereof; imitation jewelry; coin | JEWELRY AND PARTS THEREOF, OF SILVER.
7113190000 | Natural or cultured pearls, precious or semi-precious stones, precious metals, metals clad with precious metal and articles thereof; imitation jewelry; coin | JEWELRY AND PARTS THEREOF, OF OTH PRECIOUS METAL.
7113200000 | Natural or cultured pearls, precious or semi-precious stones, precious metals, metals clad with precious metal and articles thereof; imitation jewelry; coin | JEWELRY AND PARTS, BASE METAL CLAD W PREC METAL.
7114190000 | Natural or cultured pearls, precious or semi-precious stones, precious metals, metals clad with precious metal and articles thereof; imitation jewelry; coin | ARTLS OF GLD OR PLAT NESOI.
7114200000 | Natural or cultured pearls, precious or semi-precious stones, precious metals, metals clad with precious metal and articles thereof; imitation jewelry; coin | GOLD/SILVER -SMITHS' ARTCLS A PRTS, BS MTL CL W PM.
7115900000 | Natural or cultured pearls, precious or semi-precious stones, precious metals, metals clad with precious metal and articles thereof; imitation jewelry; coin | OTH PREC METL ARTCLS OR ARTCLS CLAD W PM, NESOI.
7116101000 | Natural or cultured pearls, precious or semi-precious stones, precious metals, metals clad with precious metal and articles thereof; imitation jewelry; coin | ARTICLES OF NATURAL PEARLS.
7116102500 | Natural or cultured pearls, precious or semi-precious stones, precious metals, metals clad with precious metal and articles thereof; imitation jewelry; coin | ARTICLES OF CULTURED PEARLS.
7116201000 | Natural or cultured pearls, precious or semi-precious stones, precious metals, metals clad with precious metal and articles thereof; imitation jewelry; coin | JEWELRY OF PRECIOUS OR SEMIPRECIOUS STONES.
7116204050 | Natural or cultured pearls, precious or semi-precious stones, precious metals, metals clad with precious metal and articles thereof; imitation jewelry; coin | ARTICLES OF PRECIOUS OR SEMIPREC STONES, NT JEWLRY.
7117190000 | Natural or cultured pearls, precious or semi-precious stones, precious metals, metals clad with precious metal and articles thereof; imitation jewelry; coin | OTH IMITATION JEWELRY, BASE METAL, INC PR MTL PLTD.
7118100000 | Natural or cultured pearls, precious or semi-precious stones, precious metals, metals clad with precious metal and articles thereof; imitation jewelry; coin | COIN (EXCPT GOLD COIN) NOT BEING LEGAL TENDER.
7118900030 | Natural or cultured pearls, precious or semi-precious stones, precious metals, metals clad with precious metal and articles thereof; imitation jewelry; coin | GOLD COIN NESOI (GOLD CONTENT).
7118900050 | Natural or cultured pearls, precious or semi-precious stones, precious metals, metals clad with precious metal and articles thereof; imitation jewelry; coin | COIN (EXCEPT GOLD COIN) NESOI.
7326906000 | Articles of iron or steel | OTH ARTIC IOS, CTD OR PLTD W PREC METAL, NESOI.
8306210000 | Miscellaneous articles of base metal | STATUETTES A OTH ORNAMNTS A PRTS PLTD W PREC METAL.
8306290000 | Miscellaneous articles of base metal | STATUETTES A OTH ORNMNTS A PRTS, BS METL NT PM PLT.
8407210000 | Nuclear reactors, boilers, machinery and mechanical appliances; parts thereof | OUTBOARD ENGINES FOR MARINE PROPULSION.
8407290010 | Nuclear reactors, boilers, machinery and mechanical appliances; parts thereof | SPK-IGN REC OR ROT INT COM PST ENG, MAR, IN/OUTBOARD.
8407290050 | Nuclear reactors, boilers, machinery and mechanical appliances; parts thereof | INBOARD ENG WITH INBOARD DRIVE F MARINE PROPULSION.
8408100010 | Nuclear reactors, boilers, machinery and mechanical appliances; parts thereof | DIESEL ENGINES, NOT EXCEEDING 149.2 KW, MARINE.
8408100020 | Nuclear reactors, boilers, machinery and mechanical appliances; parts thereof | COMP-IGNI PST ENG, MARINE, EXC149.2KW, NOT EXC223.8KW.
8409916000 | Nuclear reactors, boilers, machinery and mechanical appliances; parts thereof | PARTS F SPARK IG ENG FOR MARINE PROPULSION.
8412294000 | Nuclear reactors, boilers, machinery and mechanical appliances; parts thereof | HYDROJET ENGINES FOR MARINE PROPULSION.
8412901000 | Nuclear reactors, boilers, machinery and mechanical appliances; parts thereof | PARTS OF HYDROJET ENGINES FOR MARINE PROPULSION.
8471300100 | Nuclear reactors, boilers, machinery and mechanical appliances; parts thereof | PORT DGTL ADP MACH, <10 KG, AT LEAST CPU, KBRD, DSPLY.
8703101000 | Vehicles other than railway or tramway rolling stock, and parts and accessories thereof | VEHICLES DESIGNED FOR TRAVELING ON SNOW.
8703210100 | Vehicles other than railway or tramway rolling stock, and parts and accessories thereof | PASS MTR VEH, ONLY SPARK IGN ENG, NOT OV 1,000 CC.
8703220100 | Vehicles other than railway or tramway rolling stock, and parts and accessories thereof | PASS MOTOR VEH, ONLY SPARK IGN ENG, (1,000-1,500 CC).
8703230145 | Vehicles other than railway or tramway rolling stock, and parts and accessories thereof | VEHICLES, NESOI, NEW, ENG (1,500-3,000 CC) LE 4CYL.
8703230160 | Vehicles other than railway or tramway rolling stock, and parts and accessories thereof | PASS VEH, OV 4 N/O 6 CYL, 1,500-3,000CC.
8703230170 | Vehicles other than railway or tramway rolling stock, and parts and accessories thereof | 3PASS VEH, SPARK IGN, >6 CYL, 1,500-3,000 CC.
8703230190 | Vehicles other than railway or tramway rolling stock, and parts and accessories thereof | USED VEHICLES, ONLY SK IG (1,500-3,000 CC), NESOI.
8703240140 | Vehicles other than railway or tramway rolling stock, and parts and accessories thereof | PASS VEH, SPK IGN >3,000 CC, 4 CYL & UN.
8703240150 | Vehicles other than railway or tramway rolling stock, and parts and accessories thereof | PASS VEH, ONLY SPK IGN OV 4 N/O 6 CYL, OV 3,000 CC.
8703240160 | Vehicles other than railway or tramway rolling stock, and parts and accessories thereof | PASS VEH, ONLY SPK IGN >6 CYL, >3,000 CC, NEW.
8703240190 | Vehicles other than railway or tramway rolling stock, and parts and accessories thereof | PASS MTR VEH, ONLY SPARK IGN, GT 3,000 CC, USED.
8703310100 | Vehicles other than railway or tramway rolling stock, and parts and accessories thereof | PASS VEH, ONLY COMPR IG, DIESEL, <1,500 CC.
8703320110 | Vehicles other than railway or tramway rolling stock, and parts and accessories thereof | PASS VEH, DIESEL ENG, ONLY CMP-IG, 1,500-2,500 CC, NEW.
8703320150 | Vehicles other than railway or tramway rolling stock, and parts and accessories thereof | PASS VEH, DIESEL ENG, ONLY COMP-IG 1,500-2,500 CC, USED.
8703330145 | Vehicles other than railway or tramway rolling stock, and parts and accessories thereof | PASS VEH, DIESEL, ONLY COMP-IG, >2,500 CC, NEW, NES.
8703330185 | Vehicles other than railway or tramway rolling stock, and parts and accessories thereof | PASS VEH, DIESEL, ONLY COMP-IG, >2,500 CC, USE, NES.
8703400005 | Vehicles other than railway or tramway rolling stock, and parts and accessories thereof | PASS MOT VEH LT = 1,000 CC SPRK IGN/ELEC NCHRG ENG, NES.
8703400010 | Vehicles other than railway or tramway rolling stock, and parts and accessories thereof | PSSNGR VEH, SPARK IGN AND ELCTC MTR, 1,000-1,500 CC.
8703400020 | Vehicles other than railway or tramway rolling stock, and parts and accessories thereof | PASS VEH, SPRK IG/ELEC, NCHG, NESOI, 4 CYL, 500-3,000 CC.
8703400030 | Vehicles other than railway or tramway rolling stock, and parts and accessories thereof | PASS VEH SPK IGN/ELEC, NCHG PL >4 <6 CYL, 1,500-3,000 CC.
8703400040 | Vehicles other than railway or tramway rolling stock, and parts and accessories thereof | 3PASS VEH, SPARK IGN/ELEC, NCHRG >6 CYL, 1,500-3,000CC.
8703400045 | Vehicles other than railway or tramway rolling stock, and parts and accessories thereof | USED VHCLS, SPRK AND ELCTC ENGN 1,500-3,000 CC NESOI.
8703400060 | Vehicles other than railway or tramway rolling stock, and parts and accessories thereof | PASS VEH, SPK IGN/ELEC NCHG PLG >3,000 CC, 4 CYL & UN.
8703400070 | Vehicles other than railway or tramway rolling stock, and parts and accessories thereof | PASS VEH, SPK IGN/ELEC NCHG PLUG >4 <6 CYL, >3,000 CC.
8703400080 | Vehicles other than railway or tramway rolling stock, and parts and accessories thereof | PASS VEH, SPK IGN/ELEC, NWCHRG PLG >6 CYL, >3,000 CC.
8703400090 | Vehicles other than railway or tramway rolling stock, and parts and accessories thereof | PASS VEH, SPK IG & ELEC NO PLUG, OVER 3,000 CC, USED.
8703500010 | Vehicles other than railway or tramway rolling stock, and parts and accessories thereof | PASS VEH, DIESEL AND ELEC NO PLUG, <1,500 CC.
8703500030 | Vehicles other than railway or tramway rolling stock, and parts and accessories thereof | PASS VEH, DIESL/ELC (NO PLUG) 1,500-2,500 CC, NEW.
8703500050 | Vehicles other than railway or tramway rolling stock, and parts and accessories thereof | PASS VEH, DIES/ELEC (NO PLG) ENG, 1,500-2,500 CC, USED.
8703500070 | Vehicles other than railway or tramway rolling stock, and parts and accessories thereof | PASS VEH, DIESEL/ELEC, >2,500 CC, NEW, NESOI.
8703500090 | Vehicles other than railway or tramway rolling stock, and parts and accessories thereof | PASS VEH, DIESEL/ELEC, >2,500 CC, USED, NESOI.
8703600005 | Vehicles other than railway or tramway rolling stock, and parts and accessories thereof | PASS MOT VEH LT = 1,000 CC SPARK IGN/ELEC CHRG W PLG.
8703600010 | Vehicles other than railway or tramway rolling stock, and parts and accessories thereof | PASSVEH, SP-IGN/ELEC W/PLUG ENG, (1,000-1,500 CC).
8703600020 | Vehicles other than railway or tramway rolling stock, and parts and accessories thereof | PASS VEH, SPK IGN/ELEC, WITH PLUG 4 CYL, 1,500-3,000 CC.
8703600030 | Vehicles other than railway or tramway rolling stock, and parts and accessories thereof | PASS VEH, SPK IGN/ELEC CHRG PLG >4 <6CYL,,1,500-3,000 CC.
8703600040 | Vehicles other than railway or tramway rolling stock, and parts and accessories thereof | 3PASS VEH, SPRK IGN/ELEC CHRG, >6 CYL, 1,500-3,000 CC.
8703600045 | Vehicles other than railway or tramway rolling stock, and parts and accessories thereof | USED VEHICLES, SPK/ELEC (1,500-3,000 CC), NESOI.
8703600060 | Vehicles other than railway or tramway rolling stock, and parts and accessories thereof | PASS VEH, SPK IGN/ELEC CHRG PLUG >3,000 CC, 4 CYL & UN.
8703600070 | Vehicles other than railway or tramway rolling stock, and parts and accessories thereof | PASS VEH, SPK IGN/ELEC, CHRG PLUG >4, <6 CYL, >3,000 CC.
8703600080 | Vehicles other than railway or tramway rolling stock, and parts and accessories thereof | PASS VEH, SPK IGN/ELEC CHRG PLUG >6 CYL, >3,000 CC.
8703600090 | Vehicles other than railway or tramway rolling stock, and parts and accessories thereof | PASS MTR VEH, SP IGN/ELEC, OVER 3,000 CC, USED.
8703700010 | Vehicles other than railway or tramway rolling stock, and parts and accessories thereof | PASSENGER VEHICLES, DIESEL/ELEC, <1,500 CC.
8703700030 | Vehicles other than railway or tramway rolling stock, and parts and accessories thereof | PASS VEH, DIESE/ELEC, OV 1,500 BT NT OV 2,500 CC, NEW.
8703700050 | Vehicles other than railway or tramway rolling stock, and parts and accessories thereof | PASS VEH, DIESL/ELEC, OV 1500 BT NT OV 2,500 CC, USED.
8703700070 | Vehicles other than railway or tramway rolling stock, and parts and accessories thereof | PASS MOTOR VEH, DIESL/ELECTRIC, >2,500 CC, NEW, NESOI.
8703700090 | Vehicles other than railway or tramway rolling stock, and parts and accessories thereof | PASS MOTOR VEH, DIESL/ELECTRI, > 2,500 CC, USED, NESOI.
8703800000 | Vehicles other than railway or tramway rolling stock, and parts and accessories thereof | PASSENGER MOTOR VEHICLES ONLY ELECTRC MOTOR, NESOI.
8703900100 | Vehicles other than railway or tramway rolling stock, and parts and accessories thereof | PASSENGER MOTOR VEHICLES, NESOI.
8706001520 | Vehicles other than railway or tramway rolling stock, and parts and accessories thereof | CHASSIS FITTED W/ENG, FOR PASSENGER AUTOMOBILES.
8707100020 | Vehicles other than railway or tramway rolling stock, and parts and accessories thereof | BODIES FOR PASSENGER AUTOS OF HEADING 8703.
8711200000 | Vehicles other than railway or tramway rolling stock, and parts and accessories thereof | MOTORCYCLES (INCLUDING MOPEDS), CYCL, EXC50CC, NT250C.
8711300000 | Vehicles other than railway or tramway rolling stock, and parts and accessories thereof | MOTORCYCLES (INCLUDING MOPEDS), CYCL, EXC250CC, NT500.
8711400000 | Vehicles other than railway or tramway rolling stock, and parts and accessories thereof | MOTORCYCLES, CYCL, EXC500, NT800CC.
8711500000 | Vehicles other than railway or tramway rolling stock, and parts and accessories thereof | MOTORCYCLES, CYCL, EXCD 800 CC.
8711600000 | Vehicles other than railway or tramway rolling stock, and parts and accessories thereof | MOTORCYCLES (INCLUDING MOPED) ELECTRIC MOTOR, NESOI.
8711900100 | Vehicles other than railway or tramway rolling stock, and parts and accessories thereof | MOTORCYCLES (INCLUDING MOPEDS), NESOI.
8714100010 | Vehicles other than railway or tramway rolling stock, and parts and accessories thereof | SADDLES AND SEATS OF MOTORCYCLES.
8714100090 | Vehicles other than railway or tramway rolling stock, and parts and accessories thereof | PARTS, NESOI, OF MOTORCYCLES.
9020004000 | Optical, photographic, cinematographic, measuring, checking, precision, medical or surgical instruments and apparatus; parts and accessories thereof | UNDERWATER BREATHING DEVICES CARRIED ON PERSON.
9101110000 | Clocks and watches and parts thereof | WRST WATCH, ELEC OPER, PRECIOUS METAL, MECH DISPLAY.
9101192000 | Clocks and watches and parts thereof | WRIST WATCH, ELEC OPER, PRECIOUS METAL, OPTO-ELEC DSP.
9101195000 | Clocks and watches and parts thereof | WRIST WATCH, ELECTRICALLY OPER, PRECIOUS METAL, NES.
9101210000 | Clocks and watches and parts thereof | WRST WATCH, NT BATTERY, PRECIOUS METAL, AUTOMATIC.
9101290000 | Clocks and watches and parts thereof | WRIST WATCHE, NT BATTERY, PRECIOUS METAL W/O AUTOM.
9101910000 | Clocks and watches and parts thereof | OTH WATCH, PRECIOUS METAL, ELEC OPR, EXC WRST WATCH.
9101990000 | Clocks and watches and parts thereof | OTH WATCH, PRCS METAL, NT BATTERY, EXC WRIST WATCH.
9111100000 | Clocks and watches and parts thereof | WTCH CASES, PRCS METAL OR METAL CLAD W PRCS METAL.
9111900000 | Clocks and watches and parts thereof | PTS, WATCH CASES OF PRECIOUS METAL OR BASE METAL.
9113100000 | Clocks and watches and parts thereof | WATCH BANDS ETC, OF PRCS METAL/METAL CLAD W PRCS MT.
9201200000 | Musical instruments; parts and accessories of such articles | GRAND PIANOS.
9601100000 | Miscellaneous manufactured articles | WORKED IVORY AND ARTICLES OF IVORY.
9601900000 | Miscellaneous manufactured articles | BONE, HORN, CORAL, ETC & OTH ANIMAL CARVING MATERL.
9602004000 | Miscellaneous manufactured articles | MOLDED OR CARVED ARTICLES OF WAX.
9603300000 | Miscellaneous manufactured articles | ARTISTS BRUSHES, & SIMILAR BRUSHES FOR COSEMTICS.
9608300039 | Miscellaneous manufactured articles | FOUNTAIN PENS, STYLOGRAPH PENS AND OTHER PENS, NESOI.
9616200000 | Miscellaneous manufactured articles | POWDER PUFFS & PADS TO APPLY COSMETICS, TOILET PREP.
9701210000 | Works of art, collectors' pieces and antiques | PAINTINGS, DRAWING AND PASTELS, OF AN AGE EXCEEDING 100 YEARS.
9701220000 | Works of art, collectors' pieces and antiques | MOSAICS OF AN AGE EXCEEDING 100 YEARS.
9701290000 | Works of art, collectors' pieces and antiques | COLLAGES & SIMILAR DECORATIVE PLAQUES, OF AN EXCEEDING 100 YEARS.
9701910000 | Works of art, collectors' pieces and antiques | PAINTINGS, DRAWING AND PASTELS, OF AN AGE NOT EXCEEDING 100 YEARS.
9701920000 | Works of art, collectors' pieces and antiques | MOSAICS, OF AN AGE NOT EXCEEDING 100 YEARS.
9701990000 | Works of art, collectors' pieces and antiques | COLLAGES & SIMILAR DECORATIVE PLAQUES, OF AN AGE NOT EXCEEDING 100 YEARS.
9702100000 | Works of art, collectors' pieces and antiques | ORIGINAL ENGRAVINGS, PRINTS & LITHOGRAPHS, OF AN AGE EXCEEDING 100 YEARS.
9702900000 | Works of art, collectors' pieces and antiques | ORIGINAL ENGRAVINGS, PRINTS & LITHOGRAPHS, OF AN AGE NOT EXCEEDING 100 YEARS.
9703100000 | Works of art, collectors' pieces and antiques | ORIGINAL SCULPTURES AND STATUARY, IN ANY MATERIAL, OF AN AGE EXCEEDING 100 YEARS.
9703900000 | Works of art, collectors' pieces and antiques | ORIGINAL SCULPTURES AND STATUARY, IN ANY MATERIAL, NOT OF AN AGE EXCEEDING 100 YEARS.
9704000000 | Works of art, collectors' pieces and antiques | POSTAGE OR REVENUE STAMPS, FIRSTDAY COVERS.
9705100000 | Works of art, collectors' pieces and antiques | COLLECTIONS & CLLCTRS' PCS OF ARCH, ETHNO OR HIST INT.
9705210000 | Works of art, collectors' pieces and antiques | HUMAN SPEC AND PARTS THEREOF, OF ZOO, BOT, MIN, ANA OR PALEO INT.
9705220000 | Works of art, collectors' pieces and antiques | EXTINCT OR END SPECIES OR PARTS, OF ZOO, BOT, MIN, ANA, OR PALEO INT.
9705290000 | Works of art, collectors' pieces and antiques | COLLECTIONS & CLLCTRS' PCS OF ZOO, BOT, MIN, ANA, PALEO INT, NESOI.
9705310030 | Works of art, collectors' pieces and antiques | GOLD NUMISMATIC (COLLECTORS') PIECES, OF AN AGE EXCEEDING 100 YEARS.
9705310060 | Works of art, collectors' pieces and antiques | NUMISMATIC (COLLECTORS') PIECES, EXCEPT GOLD, OF AN AGE EXCEEDING 100 YEARS.
9705390030 | Works of art, collectors' pieces and antiques | GOLD NUMISMATIC (COLLECTORS') PIECES, NESOI.
9705390060 | Works of art, collectors' pieces and antiques | NUMISMATIC (COLLECTORS') PIECES, EXCEPT GOLD, NESOI.
9706100000 | Works of art, collectors' pieces and antiques | ANTIQUES OF AN AGE EXCEEDING 250 YEARS.
9706900000 | Works of art, collectors' pieces and antiques | ANTIQUES OF AN AGE EXCEEDING 100 YEARS BUT NOT EXCEEDING 250 YEARS.

Thea D. Rozman Kendler,
Assistant Secretary for Export Administration.

[FR Doc. 2022-05604 Filed 3-11-22; 5:00 pm]

BILLING CODE 3510-33-P